FEDERAL COMMUNICATIONS COMMISSION

[DA 04-1493]

Wireless Telecommunications Bureau Announces Licensing and Interim Link Registration Process, Including Start Date for Filing Applications for Non-Exclusive Licenses in the 71-76 GHz, 81-86 GHz, and 92-95 GHz

AGENCY: Federal Communications Commission.

ACTION: Notice; correction.

SUMMARY: The Wireless Telecommunications Bureau (“WTB” or “Bureau”) published a Notice in the Federal Register of July 14, 2004, announcing the details of the licensing and link registration process for the 71-76, 81-86, 92-94, and 94.1-95 GHz bands. This document corrects and updates information contained in the July 14, 2004, Notice to provide correct information to the public and avoid confusion.

FOR FURTHER INFORMATION CONTACT: Cheryl Black or Stephen Buenzow, 717-338-2687.

SUPPLEMENTARY INFORMATION: In the Federal Register of July 14, 2004, FR Doc. 04-15870, correct the following pages to read:

• On page 42169, third column under the caption “How to File Individual Link Registrations under the Interim Process,” remove sentences 5 and 6; and after sentence 7, insert the following sentences to read: “Upon initiating electronic filing by entering their FRN and password, licensees will be presented with a list of call signs assigned to their FRN. Licensees should click on the non-exclusive nationwide (MM radio service) call sign under which they intend to register links, and then click on the link labeled “Register Links”. Licensees should then click on the link labeled “Add New Link”, clicking on this link will step through the filing process for registering a new link. This process must be repeated for each link that is registered.”

• On page 42170, third column, under the caption “Modifications and Amendments to Link Registrations,” remove the paragraph after footnote reference number 17 and insert the following paragraph to read: “Licensees must electronically file FCC Form 601 Main Form and Schedule M to modify the technical data on an individual link registration. Upon initiating electronic filing by entering their FRN and password, licensees will be presented with a list of call signs assigned to their FRN. Licensees should click on the non-exclusive nationwide (MM radio service) call sign containing the link they wish to modify, and then click on the link labeled “Register Links”. Licensees will then be presented with a list of links associated with that license. Links can be modified by clicking on the desired link. This process must be repeated for each link that is modified. To amend the technical data on an individual link registration which has not yet been approved, licensees will be required to file FCC Form 601 Main Form and Schedule M. Upon initiating electronic filing by entering their FRN and password, licensees will be presented with a list of call signs assigned to their FRN. Licensees should click on the link labeled “My Applications” and then click on the link labeled “Pending” to display a list of applications which can be amended. An application can be amended by clicking on the file number of the desired application and then clicking on the link labeled “Update.” Under electronic filing, the previously entered data from FCC Form 601 Schedule M will be displayed and the licensee will be allowed to change the date. This process must be repeated for each link that is amended.”

• On page 42171, second column, remove the Notice paragraph at the end of Section IV, “Filing and Regulatory Fees” and insert the following paragraph to read: “Notice: New fee rates will be effective August 10, 2004. For filings on or after August 10, 2004, applicants and licensees must check the Wireless Telecommunications Bureau Fee Guide for the current fees.²¹”

Federal Communications Commission.
Joel Taubenblatt,
Chief, Broadband Division.

[FR Doc. 04-19893 Filed 8-31-04; 8:45 am]

BILLING CODE 6712-01-P